DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 24, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal Plant and Health Inspection Service

Title: Cooperative State-Federal Brucellosis Eradication Program.

OMB Control Number: 0579-0047.

Summary of Collection: The Animal Health Protection Act (AHPA) of 2002 is the primary Federal law governing the protection of animal health. The AHPA is contained in Title X, Subtitle E, Sections 10401-18 of Public Law 107-171, May 13, 2002, the Farm Security and Rural Investment Act of 2002. Disease prevention and disease surveillance are the most effective methods for maintaining a healthy animal population and for enhancing the United States' ability to compete in the world market of animal and animal product trade. The Veterinary Services (VS) unit of the USDA's Animal and Plant Health Inspection Service (APHIS) is responsible for administering regulations intended to protect the health of the U.S. livestock population. Brucellosis is an infectious disease of animals and humans caused by bacteria of the genus Brucella. The continued presence of brucellosis in a herd seriously threatens the health, welfare, and economic viability of the livestock industry. There is no economically feasible treatment for brucellosis in livestock. The Cooperative State-Federal Brucellosis Eradication Program is a national program to eliminate this serious disease of livestock. APHIS will collect information using various forms and methods.

Need and Use of the Information: APHIS will use the information collected via various forms and methods to demonstrate that program requirements are being met for State and herd status and to demonstrate that program-allowed activities, such as testing vaccinating, and movement, are being conducted in accordance with the regulations and program rules. Without the information, APHIS would not be able to conduct an effective brucellosis surveillance, control, and eradication program. Consequently, brucellosis would likely spread to areas of the United States that are currently classified free of the disease, which could have a potentially devastating effect on U.S. livestock markets and trade.

Description of Respondents: Business; State, Local or Tribal Government.

Number of Respondents: 87,974.

Frequency of Responses: Recordkeeping; Reporting: On occasion; Quarterly; Monthly.

Total Burden Hours: 247,325.

Ruth Brown,
Departmental Information Collection Clearance Officer.

[FR Doc. 2022-15811 Filed 7-22-22; 8:45 am]

BILLING CODE 3410-34-P